DEPARTMENT OF HEALTH AND HUMAN SERVICES

Administration for Children and Families

[CFDA Number: 93.590]

Award of Single-Source Program Expansion Supplements to the Yakima Valley Farm Workers Clinic, Toppenish, WA, and the Confederated Salish and Kootenai Tribes, Pablo, MT

AGENCY: Children's Bureau, Administration on Children, Youth and Families, ACF, HHS.

ACTION: Announcement of the award of single-source program expansion supplements to the Yakima Valley Farm Workers Clinic, Toppenish, WA, and the Confederated Salish and Kootenai Tribes, Pablo, MT, to provide expanded and enhanced child abuse prevention activities and family support services that enhance the lives and ensure the safety and well-being of migrant and Native American children and their families.

SUMMARY: The Administration for Children and Families (ACF), Administration on Children, Youth and Families (ACYF), Children's Bureau (CB), announces the award of two single-source program expansion supplements in the amount of $69,481 each to the Yakima Valley Farm Workers Clinic, Toppenish, WA, and the Confederated Salish and Kootenai Tribes, Pablo, MT, to support expansion activities to better meet the national need for prevention services to migrant and Native American children and their families.

DATES: The expansion supplement is for a project period of 12 months from September 30, 2015 through September 29, 2016.

FOR FURTHER INFORMATION CONTACT: Rosie Gomez, Children's Bureau, 330 C Street SW., Washington, DC 20201. Telephone: 202-205-7403; Email: rosie.gomez@acf.hhs.gov.

SUPPLEMENTARY INFORMATION: These grantees have developed unique approaches to address child abuse and neglect prevention efforts in their communities, with independently rigorous evaluation approaches and similar program outcomes:

• Yakima Valley Farm Workers Clinic provides Spanish-language parenting education classes targeting low-income, Spanish-speaking migrant families. The goals of the parenting education program are to prevent child abuse and neglect and promote healthy family development, increase family and community protective factors and resilience, and demonstrate the benefits of collaboration between child/family serving programs.

• The Confederated Salish and Kootenai Tribes Parent Partner Project provides three evidence-informed practices: (1) The Parent Partner model; (2) Positive Indian Parenting; and (3) Mind Body Awareness Mindfulness Training. The target population is American Indian families residing on the Flathead Indian Reservation in northwestern Montana who have substantiated cases of abuse or neglect or who are providing foster care services to children from such families.

Both organizations provide effective and comprehensive child abuse prevention activities and family support services that enhance the lives and ensure the safety and well-being of migrant and Native American children and their families. The supplemental funding will afford these entities the opportunity to provide expanded and enhanced child abuse prevention activities and family support services

Statutory Authority: Title II of the Child Abuse Prevention and Treatment Act, 42 U.S.C. 5116 et seq., as amended, Pub. L. 111-320.

Christopher Beach,
Senior Grants Policy Specialist, Division of Grants Policy, Office of Administration.

[FR Doc. 2016-08588 Filed 4-13-16; 8:45 am]

BILLING CODE 4184-01-P